OFFICE OF THE UNITED STATES TRADE REPRESENTATIVE

Notice of Meeting of the Industry Sector Advisory Committee on Services (ISAC-13)

AGENCY: Office of the United States Trade Representative.

ACTION: Notice of meeting.

SUMMARY: The Industry Sector Advisory Committee on Services (ISAC-13) will hold an open meeting on February 24, 2000, from 9:30 a.m. to 12:00 noon. The meeting will be open to the public from 9:30 a.m. to 12:00 noon.

DATES: The meeting is scheduled for February 24, 2000, unless otherwise notified.

ADDRESSES: The meeting will be held at the Department of Commerce Room B-841, located at 14th Street and Constitution Avenue, NW, Washington, DC, unless otherwise notified.

FOR FURTHER INFORMATION CONTACT: Bruce Harsh, Department of Commerce, 14th St. and Constitution Ave., NW, Washington, DC 20230, (202) 482-4852 or Ladan Manteghi, Office of the United States Trade Representative, 1724 F St. NW, Washington, DC 20508, (202) 395-6120.

SUPPLEMENTARY INFORMATION: The ISAC-13 will hold an open meeting on February 24, 2000 from 9:00 a.m. to 12:00 noon. Agenda topics to be addressed will be:

1. Bureau of Labor Statistics: Availability of Skilled Labor Asessment.

2. Labor Department Perspective regarding the Mobility of Persons Issues.

3. INS Perspective regarding the Mobility of Persons Issue.

4. State Department Perspective regarding the Mobility of Persons Issue.

Pate Felts,
Acting Assistant United States Trade Representative, Intergovernmental Affairs and Public Liaison.

[FR Doc. 00-4223 Filed 2-22-00; 8:45 am]

BILLING CODE 3190-01-M